DEPARTMENT OF TRANSPORTATION

Federal Aviation Administration

14 CFR Part 71

[Docket No. FAA-2013-0504; Airspace Docket No. 13-AEA-3]

RIN 2120-AA66

Establishment, Modification and Cancellation of Air Traffic Service (ATS) Routes; Northeast United States

AGENCY: Federal Aviation Administration (FAA), DOT.

ACTION: Final rule.

SUMMARY: This action modifies two jet routes, six VOR Federal airways, and three area navigation routes; establishes six area navigation (RNAV) routes; and cancels two VOR Federal airways in the northeast United States. This action is necessary due to the decommissioning of the Lake Henry, PA, VHF Omnidirectional Range/Tactical Air Navigation (VORTAC) facility which provides navigation guidance for portions of the affected routes. This action enhances the safe and efficient management of aircraft within the National Airspace System.

DATES: Effective date 0901 UTC, October 17, 2013. The Director of the Federal Register approves this incorporation by reference action under 1 CFR part 51, subject to the annual revision of FAA Order 7400.9 and publication of conforming amendments.

FOR FURTHER INFORMATION CONTACT: Paul Gallant, Airspace Policy and ATC Procedures Group, Office of Airspace Services, Federal Aviation Administration, 800 Independence Avenue SW., Washington, DC 20591; telephone: (202) 267-8783.

SUPPLEMENTARY INFORMATION:

History

The FAA published in the Federal Register a notice of proposed rulemaking (NPRM) to amend two jet routes, six VOR Federal airways, and three area navigation routes; establish six area navigation (RNAV) routes; and cancel two VOR Federal airways in the northeast United States (78 FR 38236, June 26, 2013). Interested parties were invited to participate in this rulemaking effort by submitting written comments on the proposal. One comment was received. The Aircraft Owners and Pilots Association (AOPA) did not oppose the modifications but encouraged the FAA to utilize stakeholders in developing an air traffic service route modernization plan.

The Rule

This action amends Title 14, Code of Federal Regulations (14 CFR) part 71 by modifying jet routes J-36 and J-68; VOR Federal airways V-58, V-93, V-106, V-126, V-149, V-408; and RNAV routes T-212, T-291 and T-295. This action also establishes new RNAV routes Q-436, Q-438, Q-440, T-216, T-218 and T-221. In addition, VOR Federal airways V-153 and V-449 are cancelled. The decommissioning of the Lake Henry VORTAC (LHY) facility has made this action necessary.

The specific route changes are outlined below.

J-36: J-36 is amended by eliminating the segment of the route between Flint, MI (FNT) and Sparta, NJ (SAX). A new RNAV route, Q-436, as described below, replaces the cancelled segment. Most aircraft utilizing J-36 are RNAV equipped, so replacing the above J-36 segment with an RNAV route furthers the transition to an RNAV route structure and supports the NextGen initiative.

J-68: J-68 is modified by eliminating the route segments between FNT and Dunkirk, NY (DKK), supporting the transition to RNAV and reducing chart clutter. RNAV routes Q-436, Q-438 and Q-440 (see below), as well as other jet routes, provide alternative routings through the area. The portion of J-68 between Hancock, NY (HNK) and Nantucket, MA (ACK) is retained.

Q-436: Q-436 is a new route extending between the EMMMA, MI, fix and the COATE, NJ, fix. Q-436 replaces the cancelled segments of J-36 and that part of J-68 that extends between FNT and DKK. The routing of Q-436 from COATE, NJ, to a point southeast of DKK is an exact overlay of the segments of J-36 that are cancelled (see above). From this point Q-436 continues westbound providing a more direct routing for aircraft transiting from the New York area and landing in Chicago, IL.

Q-438 and Q-440: RNAV route Q-438 extends between the RUBYY, MI, WP and the RAAKK, NY, WP. Q-440 extends between the SLLAP, MI, WP and the RAAKK, NY, WP. From a point southeast of DKK, Q-438 and Q-440 diverge from Q-436 providing segregation between Chicago arrivals and aircraft overflying the Chicago area. Although not directly tied to the LHY VORTAC decommissioning, these additional Q-routes serve to reduce ATC sector complexity, allow overflight aircraft to be cleared to their cruising altitude more expeditiously and provide a more direct routing to destinations west of Chicago; therefore, they are included in this rule.

V-58: V-58 is modified by eliminating the segments between Williamsport, PA (FQM) and the HELON, NY, intersection. Following this gap, the airway resumes its charted track between HELON and ACK. In addition, the Franklin, PA 175° radial is changed to the 176° radial to correct a mathematical rounding error.

V-93: The modified V-93 extends between Patuxent, MD VORTAC (PXT) and the new LAAYK, PA intersection. The segments between LAAYK, PA, and HELON, NY, are deleted. The route then resumes its charted track between HELON, NY, and the United States/Canadian Border.

V-106: V-106 is realigned to the LAAYK, PA, fix in lieu of the LHY VORTAC and that portion of the airway between LAAYK, PA, and Barnes, MA (BAF) is deleted. Following that gap, the airway resumes its charted track between the Barnes, MA VORTAC (BAF) and the Kennebunk, ME VORTAC (ENE). This change is made because similar routing is available via other conventional airways (e.g., V-34 from WEETS, NY, to Pawling, NY (PWL) then V-405 to BAF). The change also reduces chart clutter. As described below, T-212 replaces the deleted segments of V-106.

V-126: V-126 is modified by eliminating the segment between Stonyfork, PA (SFK) and SAX. The new RNAV route T-218 replaces the cancelled segments of V-126.

V-149: V-149 is modified by replacing the LHY VORTAC with the LAAYK, PA, fix (formed by radials from the CFB and FJC VORTACs). In addition, the segment of V-149 between the MAZIE fix and the Allentown, PA VORTAC (FJC) is removed because the FJC 147°(M) radial, upon which it is based, does not pass flight inspection. The new T-221 overlies this removed segment as described below.

V-153: V-153 is removed in its entirety based on other available route alternatives and minimal usage by air traffic.

V-408: V-408 is modified by eliminating the segments between FJC and SAGES. The eliminated portion is replaced by the extension of T-295, as described below.

V-449: V-449 is removed in its entirety. With the LHY decommissioning, the remainder of the airway does not pass flight inspection. An extension of T-291, as described below, replaces this airway.

T-212: T-212 is extended to the west by adding segments between the RASHE, PA, fix (formed by the intersection of radials from the Selinsgrove, PA (SEG), and the Philipsburg, PA, (PSB) VORTACs and the WEARD, NY, fix. The amended T-212 replaces the cancelled segment of V-106 between the LAAYK, PA, and the WEETS, NY fixes.

T-216: T-216 is a new route that extends between the PSB and the Nantucket, MA, VOR/DME (ACK). T-216 overlies V-58 between PSB and ACK, and also replaces the cancelled portion of V-93 between the LAAYK INT and the HELON fix.

T-218: T-218 is a new route that extends between the Stonyfork, PA (SFK), VOR/DME and the Sparta, NJ, VORTAC (SAX). T-218 replaces V-126 between SFK and SAX.

T-221: T-221 is a new route that extends between the MAZIE, PA, fix and the Albany, NY, VORTAC (ALB). T-221 overlies V-149 between the MAZIE, PA, fix and Binghamton, NY (CFB).

T-291: T-291 is extended northward between HAR and ALB. The extended route overlies V-31 to Selinsgrove, PA (SEG), then proceeds direct to Milton, PA (MIP), and from MIP it replaces V-449 by way of the LAAYK, PA, fix and terminates at ALB.

T-295: T-295 is extended northward to the Princeton, ME, VOR/DME (PNN). T-295 overlies V-93 from Lancaster, PA (LRP) through Wilkes-Barre, PA (LVZ), to the LAAYK, PA, fix and replaces V-408 from LAAYK, PA, to the SAGES, NY, fix where it turns and overlies V-292 to the SASHA, MA, fix. T-295 then continues northbound overlying V-93 to PNN.

This rule includes several minor differences from the NPRM. Specifically, the LAAYK, PA, WP is redescribed as a “Fix.” In the V-58 description, the Franklin, PA, 175° radial is changed to the 176° radial. In the T-295 description, the Kennebunk, ME, VORTAC is reclassified as a VHF Omnidirectional Range/Distance Measuring Equipment (VOR/DME). Except for these, and editorial changes, this rule is the same as published in the NPRM.

Jet routes are published in paragraph 2004; high altitude RNAV routes (Q) are published in paragraph 2006; VOR Federal airways are published in paragraph 6010(a); and low altitude RNAV routes (T) are published in paragraph 6011, respectively, of FAA Order 7400.9W dated August 8, 2012, and effective September 15, 2012, which is incorporated by reference in 14 CFR 71.1. The jet routes, Q routes, VOR Federal airways and T routes listed in this document will be subsequently published in the Order.

The FAA has determined that this regulation only involves an established body of technical regulations for which frequent and routine amendments are necessary to keep them operationally current. Therefore, this regulation: (1) is not a “significant regulatory action” under Executive Order 12866; (2) is not a “significant rule” under Department of Transportation (DOT) Regulatory Policies and Procedures (44 FR 11034; February 26, 1979); and (3) does not warrant preparation of a regulatory evaluation because the anticipated impact is so minimal. Since this is a routine matter that only affects air traffic procedures and air navigation, it is certified that this rule does not have a significant economic impact on a substantial number of small entities under the criteria of the Regulatory Flexibility Act.

The FAA's authority to issue rules regarding aviation safety is found in Title 49 of the United States Code. Subtitle I, Section 106 describes the authority of the FAA Administrator. Subtitle VII, Aviation Programs, describes in more detail the scope of the agency's authority.

This rulemaking is promulgated under the authority described in Subtitle VII, Part A, Subpart I, Section 40103. Under that section, the FAA is charged with prescribing regulations to assign the use of the airspace necessary to ensure the safety of aircraft and the efficient use of airspace. This regulation is within the scope of that authority because it modifies the route structure as required to preserve the safe and efficient flow of air traffic.

Environmental Review

The FAA has determined that this action qualifies for categorical exclusion under the National Environmental Policy Act in accordance with FAA Order 1050.1E, “Environmental Impacts: Policies and Procedures,” paragraph 311a. This airspace action is not expected to cause any potentially significant environmental impacts, and no extraordinary circumstances exist that warrant preparation of an environmental assessment.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of FAA Order 7400.9W, Airspace Designations and Reporting Points, dated August 8, 2012, and effective September 15, 2012, is amended as follows:

Paragraph 2004 Jet Routes

* * * * *

J-36 [Amended]

From Mullan Pass, ID, via Great Falls, MT; Dickinson, ND, via Fargo, ND; Gopher, MN; Nodine, MN; INT Nodine 116° and Badger, WI, 271° radials; Badger; INT Badger 086° and Flint, MI, 278° radials; to Flint.

J-68 (Amended)

From Gopher, MI, INT Gopher 109° and Dells, WI, 310° radials; Dells; Badger, WI; INT Badger 086° and Flint, MI, 278° radials; to Flint. From Hancock, NY; INT Hancock 082° and Putnam, CT, 293° radials; Putnam; Providence, RI; to Nantucket, MA.

* * * * *

Paragraph 2006 United States Area Navigation Routes

Q-436 EMMMA, MI to COATE, NJ [New]
EMMMA, MI | FIX | (Lat. 42°53′04″ N., long. 084°34′50″ W.)
YARRK, (Canada) | WP | (Lat. 42°31′22″ N., long. 081°16′06″ W.)
CHAAP, (Canada) | WP | (Lat. 42°30′19″ N., long. 080°40′57″ W.)
RAAKK, NY | WP | (Lat. 42°23′59″ N., long. 078°54′39″ W.)
HERBA, NY | WP | (Lat. 42°14′35″ N., long. 078°16′28″ W.)
LAAYK, PA | Fix | (Lat. 41°28′33″ N., long. 075°28′57″ W.)
COATE, NJ | FIX | (Lat. 41°08′10″ N., long. 074°41′43″ W.)
Excluding the airspace in Canada.
Q438 RUBYY, MI to RAAKK, NY [New]
RUBYY, MI | WP | (Lat. 43°01′04″ N., long. 084°35′16″ W.)
Flint, MI (FNT) | VORTAC | (Lat. 42°58′00″ N., long. 083°44′49″ W.)
TWIGS, MI | WP | (Lat. 42°48′34″ N., long. 082°33′10″ W.)
JAAJA, (Canada) | WP | (Lat. 42°40′00″ N., long. 081°16′00″ W.)
FARGN, (Canada) | WP | (Lat. 42°36′42″ N., long. 079°47′18″ W.)
RAAKK, NY | WP | (Lat. 42°23′59″ N., long. 078°54′39″ W.)
Excluding the airspace in Canada.
Q440 SLLAP, MI to RAAKK, NY [New]
SLLAP, MI | WP | (Lat. 43°27′00″ N., long. 084°56′20″ W.)
Flint, MI (FNT) | VORTAC | (Lat. 42°58′00″ N., long. 083°44′49″ W.)
TWIGS, MI | WP | (Lat. 42°48′34″ N., long. 082°33′10″ W.)
JAAJA, (Canada) | WP | (Lat. 42°40′00″ N., long. 081°16′00″ W.)
FARGN, (Canada) | WP | (Lat. 42°36′42″ N., long. 079°47′18″ W.)
RAAKK, NY | WP | (Lat. 42°23′59″ N., long. 078°54′39″ W.)
Excluding the airspace in Canada.

* * * * *

Paragraph 6010 VOR Federal Airways

V-58 [Amended]

From INT Franklin, PA, 176° and Clarion, PA, 222° radials, via INT Clarion 222° and Philipsburg, PA, 272° radials; Philipsburg; to Williamsport, PA. From INT Sparta, NJ 018° and Kingston, NY, 270° radials; Kingston; INT Kingston 095° and Hartford, CT, 269° radials; Hartford; Groton, CT; Sandy Point, RI; to Nantucket, MA. The airspace within R-4105 is excluded during times of use.

V-93 [Amended]

From Patuxent River, MD, INT Patuxent 013° and Baltimore, MD, 122° radials; Baltimore; INT Baltimore 004° and Lancaster, PA, 214° radials; Lancaster; Wilkes-Barre, PA; to INT Wilkes-Barre 037° and Sparta, NJ 300° radials. From INT Sparta 018° and Kingston, NY, 270° radials; Kingston; Pawling, NY; Chester, MA, 12 miles 7 miles wide (4 miles E and 3 miles W of centerline); Keene, NH; Concord, NH; Kennebunk, ME; INT Kennebunk 045° and Bangor, ME, 220° radials; Bangor; Princeton, ME; to INT Princeton 057° radial and the United States/Canadian border.

V-106 [Amended]

From Johnstown, PA; INT Johnstown 068° and Selinsgrove, PA, 259° radials; Selinsgrove; INT Selinsgrove 067° and Wilkes-Barre, PA, 237° radials; Wilkes-Barre; to INT Wilkes-Barre 037° and Sparta, NJ 300° radials. From Barnes, MA; Gardner, MA; Manchester, NH; to Kennebunk, ME.

V-126 [Amended]

From INT Peotone, IL, 053° and Knox, IN, 297° radials; INT Knox 297° and Goshen, IN, 270° radials; Goshen; Waterville, OH; Sandusky, OH; Dryer, OH; Jefferson, OH; Erie, PA; Bradford, PA; to Stonyfork, PA.

V-149 [Amended]

From Allentown, PA; INT Allentown 358° and Binghamton, NY 144° radials; to Binghamton.

V-153 [Removed]

V-408 [Amended]

From INT Martinsburg, WV, 058° and Modena, PA, 258° radials; Modena; Pottstown, PA; East Texas, PA; to Allentown, PA.

V-449 [Removed]

* * * * *

Paragraph 6011. United States Area Navigation Routes

T-212 RASHE, PA to Putnam, CT (PUT) [Amended]
RASHE, PA | FIX | (Lat. 40°40′36″ N., long. 077°38′39″ W.)
Selinsgrove, PA (SEG) | VORTAC | (Lat. 40°47′27″ N., long. 076°53′03″ W.)
DIANO, PA | FIX | (Lat. 41°00′02″ N., long. 076°13′34″ W.)
Wilkes Barre, PA (LVZ) | VORTAC | (Lat. 41°16′22″ N., long. 075°41′22″ W.)
LAAYK, PA | FIX | (Lat. 41°28′33″ N., long. 075°28′57″ W.)
WEETS, NY | FIX | (Lat. 41°51′27″ N., long. 074°11′52″ W.)
NELIE, CT | FIX | (Lat. 41°56′28″ N., long. 072°41′19″ W.)
Putnam, CT (PUT) | VOR/DME | (Lat. 41°57′20″ N., long. 071°50′39″ W.)
T-216 Philipsburg, PA (PSB) to Nantucket, MA (ACK) [New]
Philipsburg, PA (PSB) | VORTAC | (Lat. 40°54′59″ N., long. 077°59′34″ W.)
Williamsport, PA (FQM) | VOR/DME | (Lat. 41°20′19″ N., long. 076°46′30″ W.)
ELEXY, PA | WP | (Lat. 41°25′54″ N., long. 076°07′35″ W.)
LAAYK, PA | FIX | (Lat. 41°28′33″ N., long. 075°28′57″ W.)
HELON, NY | FIX | (Lat. 41°40′03″ N., long. 074°16′50″ W.)
Kingston, NY (IGN) | VOR/DME | (Lat. 41°39′56″ N., long. 073°49′20″ W.)
MOONI, CT | FIX | (Lat. 41°37′53″ N., long. 073°19′19″ W.)
Hartford, CT (HFD) | VOR/DME | (Lat. 41°38′28″ N., long. 072°32′51″ W.)
Groton, CT (GON) | VOR/DME | (Lat. 41°19′49″ N., long. 072°03′07″ W.)
Sandy Point, RI (SEY) | VOR/DME | (Lat. 41°10′03″ N., long. 071°34′34″ W.)
Nantucket, MA (ACK) | VOR/DME | (Lat. 41°16′55″ N., long. 070°01′36″ W.)
The airspace within R-4105 is excluded during times of use.
T-218 Stonyfork, PA (SFK) to Sparta, NJ (SAX) [New]
Stonyfork PA (SFK) | VOR/DME | (Lat. 41°41′43″ N., long. 077°25′12″ W.)
LAAYK, PA | FIX | (Lat. 41°28′33″ N., long. 075°28′57″ W.)
Sparta, NJ (SAX) | VORTAC | (Lat. 41°04′03″ N., long. 074°32′18″ W.)
T-221 MAZIE, PA to Binghamton, NY (CFB) [New]
MAZIE PA | FIX | (Lat. 40°19′20″ N., long. 075°06′35″ W.)
Allentown, PA (FJC) | VORTAC | (Lat. 40°43′36″ N., long. 075°27′17″ W.)
LAAYK, PA | FIX | (Lat. 41°28′33″ N., long. 075°28′57″ W.)
Binghamton, NY (CFB) | VORTAC | (Lat. 42°09′27″ N., long. 076°08′11″ W.)
T-291 LOUIE, MD to Albany, NY (ALB) [Amended]
LOUIE, MD | FIX | (Lat. 38°36′44″ N., long. 076°18′04″ W.)
BAABS, MD | WP | (Lat. 39°19′51″ N., long. 076°24′41″ W.)
Harrisburg, PA (HAR) | VORTAC | (Lat. 40°18′08″ N., long. 077°04′10″ W.)
Selinsgrove, PA (SEG) | VORTAC | (Lat. 40°47′27″ N., long. 076°53′03″ W.)
Milton, PA (MIP) | VORTAC | (Lat. 41°01′24″ N., long. 076°39′55″ W.)
MEGSS, PA | FIX | (Lat. 41°11′13″ N., long. 076°12′41″ W.)
LAAYK, PA | FIX | (Lat. 41°28′33″ N., long. 075°28′57″ W.)
Delancey, NY (DNY) | VOR/DME | (Lat. 42°10′42″ N., long. 074°57′25″ W.)
Albany, NY (ALB) | VORTAC | (Lat. 42°44′50″ N., long. 073°48′11″ W.)
T-295 LOUIE, MD to Princeton, ME (PNN) [Amended]
LOUIE, MD | FIX | (Lat. 38°36′44″ N., long. 076°18′04″ W.)
BAABS, MD | WP | (Lat. 39°19′51″ N., long. 076°24′41″ W.)
Lancaster, PA (LRP) | VORTAC | (Lat. 40°07′12″ N., long. 076°17′29″ W.)
Wilkes-Barre, PA (LVZ) | VORTAC | (Lat. 41°16′22″ N., long. 075°41′22″ W.)
LAAYK, PA | FIX | (Lat. 41°28′33″ N., long. 075°28′57″ W.)
SAGES, NY | FIX | (Lat. 42°02′46″ N., long. 074°19′10″ W.)
SASHA, MA | FIX | (Lat. 42°07′59″ N., long. 073°08′55″ W.)
Keene, NH (EEN) | VORTAC | (Lat. 42°47′39″ N., long. 072°17′30″ W.)
Concord, NH (CON) | VORTAC | (Lat. 43°13′11″ N., long. 071°34′32″ W.)
Kennebunk, ME (ENE) | VOR/DME | (Lat. 43°25′32″ N., long. 070°36′49″ W.)
BRNNS, ME | FIX | (Lat. 43°54′09″ N., long. 069°56′43″ W.)
Bangor, ME (BGR) | VORTAC | (Lat. 44°50′30″ N., long. 068°52′26″ W.)
Princeton, ME (PNN) | VOR/DME | (Lat. 45°19′45″ N., long. 067°42′15″ W.)

Issued in Washington, DC, on August 21, 2013.
Gary A. Norek,
Manager, Airspace Policy and ATC Procedures Group.

[FR Doc. 2013-21009 Filed 8-28-13; 8:45 am]

BILLING CODE 4910-13-P